FEDERAL RESERVE SYSTEM

Agency Information Collection Activities: Announcement of Board Approval Under Delegated Authority and Submission to OMB

SUMMARY: Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-Is nd supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer-Mary M. West-Division of Research and Statistics, Board of Governors of the Federal Reserve System, Washington, DC 20551 (202-452-3829); OMB Desk Officer-Alexander T. Hunt-Office of Information and Regulatory Affairs, Office of Management and Budget, New Executive Office Building, Room 3208, Washington, DC 20503 (202-395-7860).

SUPPLEMENTARY INFORMATION:

Final Approval Under OMB Delegated Authority of the Extension for Three Years, Without Revision, of the Following Reports:

1. Report title: Annual Salary Survey, ad hoc surveys, and Compensation Trend Survey.

Agency form number: FR 29a, b, c.

OMB Control number: 7100-0290.

Frequency: FR 29a, once each year; FR 29b, on occasion; FR 29c, once each year.

Reporters: Employers considered competitors for Federal Reserve employees.

Annual reporting hours: FR 29a, 270 hours; FR 29b, 30 hours; FR 29c, 1,300 hours.

Estimated average hours per response: FR 29a, 6 hours; FR 29b, 1 hour; FR 29c, 2 hours.

Number of respondents: FR 29a, 45; FR 29b, 10; FR 29c, 650.

Small businesses are affected.

General description of report: This information collection is voluntary (sections 10(4) and 11(1) of the Federal Reserve Act (12 U.S.C. 244 and 248(1)) and is given confidential treatment (5 U.S.C §§ 552 (b)(4) and (b)(6)).

Abstract: The surveys collect information on salaries, employee compensation policies, and other employee programs from employers that are considered competitors for Federal Reserve employees. The data from the surveys primarily are used to determine the appropriate salary structure and salary adjustments for Federal Reserve employees.

2. Report title: Recordkeeping and Disclosure Requirements Associated with Securities Transactions Pursuant to Regulation H.

Agency form number: Reg H-3.

OMB Control number: 7100-0196.

Frequency: Development of policy statement, one-time; Trust company report, quarterly; Transactions recordkeeping, on occasion; and Disclosure, on occasion.

Reporters: State member banks and trust companies.

Annual reporting hours: 158,423 hours.

Estimated average hours per response: Development of policy statement, 30 minutes; Trust company report, 15 minutes; Transaction recordkeeping, 3 minutes; and Disclosure, 3 minutes.

Number of respondents: 1,324.

Small businesses are affected.

General description of report: This information collection is mandatory (12 U.S.C. 325). If the records maintained by state member banks come into the possession of the Federal Reserve, they are given confidential treatment (5 U.S.C. 552(b)(4), (b)(6), and (b)(8)).

Abstract: State-chartered member banks and trust companies effecting securities transactions for customers must establish and maintain a system of records, furnish confirmations to customers, and establish written policies and procedures relating to securities trading. They are required to maintain records for three years following the transaction. These requirements are necessary for customer protection, to avoid or settle customer disputes, and to protect the bank against potential liability arising under the anti-fraud and insider trading provisions of the Securities Exchange Act of 1934.

Final Approval Under OMB Delegated Authority of the Extension for Three Years, With Revision, of the Following Report:

1. Report title: Application for Employment with the Board of Governors of the Federal Reserve System.

Agency form number: FR 28.

OMB Control number: 7100-0181.

Frequency: On occasion.

Reporters: Employment applicants.

Annual reporting hours: 8,625 hours.

Estimated average hours per response: 1 hour.

Number of respondents: 8,500.

Small businesses are not affected.

General description of report: This information collection is required to obtain a benefit (sections 10(4) and 11(1) of the Federal Reserve Act (12 U.S.C. 244 and 248(1)). The Board is required to treat the information collected on the Application as confidential pursuant to the requirements of the Privacy Act (5 U.S.C. 552a). Individual respondent data are regarded as confidential under the Freedom of Information Act (5 U.S.C. 552(b)(2) and (b)(6)).

Abstract: The Application collects information to determine the qualifications, suitability, and availability of applicants for employment with the Board. The Application asks about education, training, employment, and other information covering the period since the applicant left high school.

Current actions: The Federal Reserve will add two short supplemental forms to the Application. One form will be given to all applicants and collects information about the gender and race of the applicant. The information from this form will be used to assist the Board with federal equal opportunity record keeping, reporting, and other legal requirements. The second form will be filled out by applicants for Research Assistant positions in the divisions of Monetary Affairs, International Finance, and Research and Statistics. The survey will serve to streamline the recruiting process by attempting to determine an applicant's interest in the policy and research topics that are germane to individual research sections.

Final Approval Under OMB Delegated Authority to the Implement the Following Report:

1. Report title: Survey of Board Publications.

Agency form number: FR 1373a and b.

OMB Control number: 7100-0301.

Frequency: FR 1373a, 1.5; FR 1373b small-panel, 8; and FR 1373b large-panel,

2. Reporters: FR 1373a, educators who have previously requested materials from the Board; FR 1373b, current subscribers of Board publications.

Annual reporting hours: 762 hours.

Estimated average hours per response: FR 1373a, 30 minutes; FR 1373b, 15 minutes.

Number of respondents: FR 1373a, 400; FR 1373b small-panel, 131; FR 1373b large-panel, 400.

Small businesses are affected.

General description of report: This information collection is voluntary. The FR 1373a survey is authorized pursuant to the Federal Trade Commission Improvement Act (15 U.S.C. 57(a)); the FR 1373b survey is authorized pursuant to 12 U.S.C. 248(i). The specific information collected is not considered confidential.

Abstract: Data from the FR 1373a survey will help the Board staff to 1) conduct periodic reviews and evaluations of the consumer education resources available to consumers and consumer educators, and to 2) evaluate consumer education resources under consideration for distribution. Data from the FR 1373b survey will help the Board staff to evaluate Board publications that are available to the public. The staff will use the FR 1373b data to help determine if the Board should continue to issue certain publications and, if so, whether the public would like to see changes in the method of information delivery, issuance frequency, content, or format/appearance.

Board of Governors of the Federal Reserve System, December 28, 2001.

Jennifer J. Johnson,
Secretary of the Board.

[FR Doc. 02-123 Filed 1-2-02; 8:45 am]

BILLING CODE 6210-01-S